SMALL BUSINESS ADMINISTRATION

[Declaration of Disaster #3248]

State of Louisiana

Terrebonne Parish and the contiguous parishes of Assumption, Lafourche, and St. Mary in the State of Louisiana constitute a disaster area as a result of damages caused by severe storms and tornadoes that occurred on March 15, 2000. Applications for loans for physical damage as a result of this disaster may be filed until the close of business on May 22, 2000, and for economic injury until the close of business on December 21, 2000 at the address listed below or other locally announced locations:

U.S. Small Business Administration, Disaster Area 3 Office, 4400 Amon Carter Blvd., Suite 102, Ft. Worth, TX 76155

The interest rates are:

For Physical Damage

Homeowners With Credit Available Elsewhere—7.625%

Homeowners Without Credit Available Elsewhere—3.812%

Businesses With Credit Available Elsewhere—8.000%

Businesses and Non-Profit Organizations Without Credit Available Elsewhere—4.000%

Others (Including Non-Profit Organizations) With Credit Available Elsewhere—6.750%

For Economic Injury

Businesses and Small Agricultural Cooperatives Without Credit Available Elsewhere—4.000%

The numbers assigned to this disaster are 324812 for physical damage and 9G9400 for economic injury.

(Catalog of Federal Domestic Assistance Program Nos. 59002 and 59008)
Dated: March 21, 2000.
Aida Alvarez,
Administrator.

[FR Doc. 00-8024 Filed 3-30-00; 8:45 am]

BILLING CODE 8025-01-U